DEPARTMENT OF HOMELAND SECURITY

Coast Guard

33 CFR Part 165

[Docket No. USCG-2023-0376]

Safety Zone; Annual Events in the Captain of the Port Buffalo Zone

AGENCY: Coast Guard, DHS.

ACTION: Notification of enforcement of regulation.

SUMMARY: The Coast Guard will enforce a Safety Zone for the Boldt Castle Independence Day Fireworks on July 4, 2023, to provide for the safety of life on navigable waterways during this event. Our regulation for marine events within the Ninth Coast Guard District identifies the regulated area for this event in Alexandria Bay, NY. During the enforcement period, the operator of any vessel in the regulated area must comply with directions from the Patrol Commander or any Official Patrol displaying a Coast Guard ensign.

DATES: The regulations in 33 CFR 165.939 will be enforced for the Boldt Castle 4th of July Fireworks regulated area listed in item b.13 in the table to § 165.939 from 9 p.m. through 10:30 p.m. on July 4, 2023.

FOR FURTHER INFORMATION CONTACT: If you have questions about this notification of enforcement, call or email MST1 Julio Maldonado, Waterways Management Division Representative, U.S. Coast Guard MSD Massena; telephone 315-322-8168, email SMB-MSDMassena-WaterwaysManagement@uscg.mil.

SUPPLEMENTARY INFORMATION: The Coast Guard will enforce a safety zone in 33 CFR 165.939 for the Boldt Castle 4th of July Fireworks regulated area from 9 p.m. through 10:30 p.m. on July 4, 2023. This action is being taken to provide for the safety of life on navigable waterways during this event. Our regulation for marine events within the Ninth Coast Guard District, § 165.939, specifies the location of the regulated area for the Boldt Castle 4th of July Fireworks which encompasses portions of the St. Lawrence River. During the enforcement period as reflected in § 165.939, if you are the operator of a vessel in the regulated area you must comply with directions from the Patrol Commander or any Official Patrol displaying a Coast Guard ensign.

In addition to this notification of enforcement in the Federal Register, the Coast Guard plans to provide notification of this enforcement period via the Broadcast Notice to Mariners.

Dated: May 26, 2023.
J.B. Bybee,
Commander, U.S. Coast Guard, Captain of the Port Buffalo, By direction.

[FR Doc. 2023-11879 Filed 6-2-23; 8:45 am]

BILLING CODE 9110-04-P